DEPARTMENT OF THE INTERIOR

Bureau of Land Management

[ID-410-1610-DR-006D]

Notice of Availability of the Record of Decision for the Coeur d'Alene Resource Management Plan (RMP)/Environmental Impact Statement (EIS)

AGENCY: Bureau of Land Management (BLM), Department of the Interior.

ACTION: Notice of Availability of Record of Decision (ROD).

SUMMARY: In accordance with the National Environmental Policy Act (NEPA), the Federal Land Policy and Management Act (FLPMA), and BLM Policy, the BLM announces the availability of the RMP/ROD for the Coeur d'Alene Field Office located in Idaho. The Idaho State Director signed the ROD on June 29, 2007, and it is effective as of that date.

ADDRESSES: Copies of the Coeur d'Alene ROD/RMP are available upon request from the Coeur d'Alene Field Office, Bureau of Land Management, ATTN: RMP, 3815 Schreiber Way, Coeur d'Alene, ID 83815, or via the internet at http://www.blm.gov/rmp/id/cda/.

FOR FURTHER INFORMATION CONTACT: Scott Pavey, Spokane District Office, 1103 North Fancher, Spokane Valley, Washington 99212, (208) 769-5059, or e-mail scott_pavey@blm.gov.

SUPPLEMENTARY INFORMATION: The Coeur d'Alene RMP was developed with broad public participation through a three year collaborative planning process. This RMP addresses management on approximately 97,900 acres of public land in the planning area. The Coeur d'Alene RMP is designed to achieve or maintain desired future conditions developed through the planning process. It includes a series of management actions to meet the desired resource conditions for forest, upland, and riparian vegetation; wildlife habitats; cultural and visual resources; and recreation. The approved Coeur d'Alene RMP is essentially the same as Alternative D in the Proposed RMP/Final Environmental Impact Statement (PRMP/FEIS), published in October 2006.

The BLM received two protests to the PRMP/FEIS which the Director of BLM resolved without requiring significant changes to proposed decisions in the PRMP/FEIS. No inconsistencies with State or local plans, policies, or programs were identified during the Governor's consistency review of the PRMP/FEIS. Thus, as a result of the lack of substantive comments in the protest and consistency review stages, only minor editorial modifications were made in preparing the ROD/RMP. These modifications corrected errors that were noted during review of the PRMP/FEIS and provide further clarification for some of the decisions.

The RMP includes decisions identifying designated routes of travel for motorized vehicles, which are implementation level decisions and are therefore appealable under 43 CFR Part 4. These decisions (route identifications) are displayed on travel management maps in the ROD/RMP. Any party adversely affected by these route identifications may appeal within 30 days of publication of this Notice of Availability, pursuant to 43 CFR part 4, subpart E. The appeal should identify the specific route(s) by township, range, and section on which the decision is being appealed. Please consult the appropriate regulations (43 CFR part 4, subpart E) for further appeal requirements. The appeal must be filed with the Field Manager of the Coeur d'Alene Field Office at the above listed address.

Before including your address, phone number, e-mail address, or other personal identifying information in your appeal, you should be aware that your entire appeal—including your personal identifying information—may be made publicly available at any time. While you can ask us in your appeal to withhold your personal identifying information from public review, we cannot guarantee that we will be able to do so.

Thomas H. Dyer,
Bureau of Land Management, Idaho State Director.

[FR Doc. E7-17417 Filed 8-31-07; 8:45 am]

BILLING CODE 4310-GG-P